DEPARTMENT OF AGRICULTURE

Animal and Plant Health Inspection Service

7 CFR Part 319

[Docket No. 03-022-7]

RIN 0579-AB81

Mexican Hass Avocado Import Program; Technical Amendment

AGENCY: Animal and Plant Health Inspection Service, USDA.

ACTION: Final rule; technical amendment.

SUMMARY: In a final rule published in the Federal Register on November 30, 2004, we amended the fruits and vegetables regulations to expand the number of States in which fresh Hass avocado fruit grown in approved orchards in approved municipalities in Michoacan, Mexico, may be distributed and to allow the distribution of the avocados during all months of the year. The final rule contained an error in the rule portion. This document corrects that error.

EFFECTIVE DATE: November 17, 2006.

FOR FURTHER INFORMATION CONTACT: Mr. David B. Lamb, Import Specialist, Commodity Import Analysis and Operations, PPQ, APHIS, 4700 River Road, Unit 133, Riverdale, MD 20737-1236; (301) 734-8758.

SUPPLEMENTARY INFORMATION: In a proposed rule published in the Federal Register on May 24, 2004 (69 FR 29466-29477, Docket No. 03-022-3), we proposed to amend the regulations in 7 CFR 319.56-2ff to expand, from 31 to 50, the number of States (plus the District of Columbia) in which fresh Hass avocado fruit grown in approved orchards in approved municipalities in Michoacan, Mexico, may be distributed. In a rule published in the Federal Register on November 30, 2004 (69 FR 69747-69774, Docket No. 03-022-5), and effective on January 31, 2005, we adopted our proposed rule as a final rule, with changes made in response to public comments we received on the proposed rule. Those changes included the adoption of temporary restrictions on the distribution of avocados (contained in § 319.56-2ff(c)(3)(vii) of the regulations) which provided that between January 31, 2005, and January 31, 2007, avocados may be imported into and distributed in all States except California, Florida, Hawaii, and that the boxes or crates in which avocados are shipped must be clearly marked with the statement “Not for importation or distribution in CA, FL, and HI.”

Prior to the effective date of our November 2004 final rule, the regulations had required that the boxes or crates be marked “Not for distribution in AL, AK, AZ, AR, CA, FL, GA, HI, LA, MS, NV, NM, NC, OK, OR, SC, TN, TX, WA, Puerto Rico, and all other U.S. Territories.” When we amended the regulations to expand, from 31 to 50, the number of States (plus the District of Columbia) in which fresh Hass avocado fruit grown in approved orchards in approved municipalities in Michoacan, Mexico, may be distributed, we should not have removed that portion of the box marking requirement that pertained to Puerto Rico and U.S. Territories. The proposed and final rules only discussed importations into the 50 States and the District of Columbia, and the pest risk analysis that supported the proposed and final rules only evaluated the risks associated with the movement of the avocados into the 50 States and the District of Columbia.

Therefore, in this document we are amending § 319.56-2ff(a)(2), which describes the shipping restrictions that apply to the avocados, and § 319.56-2ff(c)(3), which describes the box marking requirements, in order to correct the November 2004 final rule's removal of the distribution limitations that apply to Puerto Rico and U.S. Territories.

List of Subjects in 7 CFR Part 319

Coffee, Cotton, Fruits, Honey, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.56-2ff, paragraphs (a)(2) and (c)(3)(vii) are revised to read as follows:

§ 319.56-2ff Administrative instructions governing movement of Hass avocados from Michoacan, Mexico.

* * * * *

(a) * * *

(2) Between January 31, 2005, and January 31, 2007, the avocados may be imported into and distributed in all States except California, Florida, Hawaii, Puerto Rico, and U.S. Territories. After January 31, 2007, the avocados may be imported into and distributed in all States, but not Puerto Rico or any U.S. Territory.

* * * * *

(c) * * *

(3) * * *

(vii) The avocados must be packed in clean, new boxes, or clean plastic reusable crates. The boxes or crates must be clearly marked with the identity of the grower, packinghouse, and exporter. Between January 31, 2005, and January 31, 2007, the boxes or crates must be clearly marked with the statement “Not for importation or distribution in CA, FL, HI, Puerto Rico, or U.S. Territories.” After January 31, 2007, the boxes or crates must be clearly marked with the statement “Not for importation or distribution in Puerto Rico or U.S. Territories.”

* * * * *

Done in Washington, DC, this 12th day of October 2006.
Kevin Shea,
Acting Administrator, Animal and Plant Health Inspection Service.

[FR Doc. E6-17335 Filed 10-17-06; 8:45 am]

BILLING CODE 3410-34-P